DEPARTMENT OF LABOR

Employee Benefits Security Administration

Agency Information Collection Activities; Announcement of OMB Approvals

AGENCY: Employee Benefits Security Administration, Department of Labor.

ACTION: Notice.

SUMMARY: The Employee Benefits Security Administration (EBSA) announces that the Office of Management and Budget (OMB) has approved certain collections of information, listed in the Supplementary Information section below, following EBSA's submission of requests for such approvals under the Paperwork Reduction Act of 1995 (PRA). This notice describes the approved or re-approved information collections and provides their OMB control numbers and current expiration dates.

FOR FURTHER INFORMATION CONTACT: G. Christopher Cosby, Office of Policy and Research, Employee Benefits Security Administration, U.S. Department of Labor, 200 Constitution Avenue NW., Room N-5718, Washington, DC 20210. Telephone: (202) 693-8410; Fax: (202) 219-4745. These are not toll-free numbers.

SUPPLEMENTARY INFORMATION: The PRA and its implementing regulations require Federal agencies to display OMB control numbers and inform respondents of their legal significance after OMB has approved an agency's information collections. In accordance with those requirements, EBSA hereby notifies the public that the following information collections have been re-approved by OMB following EBSA's submission of an information collection request (ICR) for extension of a prior approval:

• OMB Control No. 1210-0048, Suspension of Pension Benefits Pursuant to Regulations 29 CFR 2530.203-3. The expiration date for this information collection is December 31, 2020.

• OMB Control No. 1210-0061, Employee Retirement Income Security Act Prohibited Transaction Class Exemption 1981-8, Investment of Plan Assets in Certain Types of Short-Term Investments. The expiration date for this information collection is December 31, 2020.

• OMB Control No. 1210-0063, Prohibited Transaction Class Exemption 1992-6: Sale of Individual Life Insurance or Annuity Contracts by a Plan. The expiration date for this information collection is May 31, 2020.

• OMB Control No. 1210-0076, Loans to Plan Participants and Beneficiaries Who Are Parties in Interest With Respect to The Plan Regulation. The expiration date for this information collection is May 31, 2020.

• OMB Control No. 1210-0094, Prohibited Transaction Class Exemption 1985-68 to Permit Employee Benefit Plans to Invest in Customer Notes of Employers. The expiration date for this information collection is May 31, 2020.

• OMB Control No. 1210-0098, Process for Expedited Approval of an Exemption for Prohibited Transaction, Prohibited Transaction Class Exemption 1996-62. The expiration date for this information collection is October 31, 2020.

• OMB Control No. 1210-0111, Prohibited Transaction Class Exemption 1998-54 Relating to Certain Employee Benefit Plan Foreign Exchange Transactions Executed Pursuant to Standing Instructions. The expiration date for this information collection is December 31, 2020.

• OMB Control No. 1210-0132, Default Investment Alternatives under Participant Directed Individual Account Plans. The expiration date for this information collection is June 30, 2020.

• OMB Control No. 1210-0138, Notice of Medical Necessity Criteria under the Mental Health Parity and Addiction Equity Act of 2008. The expiration date for this information collection is March 31, 2020.

• OMB Control No. 1210-0149, Notice of Employees of Coverage Options Under Fair Labor Standards Act Section 18B. The expiration date for this information collection is May 31, 2020.

EBSA hereby notifies the public that the following information collections have been approved by OMB following EBSA's submission of an information collection request (ICR) for a revision of a currently approved collection:

• OMB Control No. 1210-0053, Employee Benefit Plan Claims Procedure Under the Employee Retirement Income Security Act. The expiration date for this information collection is February 29, 2020.

• OMB Control No. 1210-0150, Coverage of Certain Preventative Services under the Affordable Care Act—Private Sector. The expiration date for this information collection is April 30, 2018.

The PRA provides that an agency may not conduct or sponsor, and a person is not required to respond to, a collection of information unless it displays a currently valid OMB control number. Publication of this notice satisfies this requirement with respect to the above-listed information collections, as provided in 5 CFR 1320.5(b)(2)(C).

Joseph S. Piacentini,
Director, Office of Policy and Research, Employee Benefits Security Administration.

[FR Doc. 2018-03165 Filed 2-26-18; 8:45 am]

BILLING CODE 4510-29-P